INTERNATIONAL TRADE COMMISSION

[Investigation No. 731-TA-1131-1132, and 1134 (Review)]

Polyethylene Terephthalate Film, Sheet, and Strip From Brazil, China, and the United Arab Emirates

Determination

On the basis of the record ¹ developed in the subject five-year reviews, the United States International Trade Commission (“Commission”) determines, pursuant to section 751(c) of the Tariff Act of 1930 (19 U.S.C. 1675(c)), that revocation of the antidumping duty orders on polyethylene terephthalate film, sheet, and strip (“PET film”) from China and the United Arab Emirates would be likely to lead to continuation or recurrence of material injury to an industry in the United States within a reasonably foreseeable time. The Commission further determines that revocation of the antidumping duty order on PET film from Brazil would not be likely to lead to continuation or recurrence of material injury to an industry in the United States within a reasonably foreseeable time.²

¹ The record is defined in sec. 207.2(f) of the Commission's Rules of Practice and Procedure (19 CFR 207.2(f)).

² Vice Chairman Dean A. Pinkert determines that revocation of the antidumping duty order on PET film from Brazil would be likely to lead to continuation or recurrence of material injury to an industry in the United States within a reasonably foreseeable time.

Background

The Commission instituted these reviews on October 1, 2013 (78 FR 60311) and determined on January 23, 2014 that it would conduct full reviews (79 FR 9276, February 18, 2014). Notice of the scheduling of the Commission's reviews and of a public hearing to be held in connection therewith was given by posting copies of the notice in the Office of the Secretary, U.S. International Trade Commission, Washington, DC, and by publishing the notice in the Federal Register on July 25, 2014 (79 FR 43509). The hearing was held in Washington, DC, on November 18, 2014, and all persons who requested the opportunity were permitted to appear in person or by counsel.

The Commission completed and filed its determination in these reviews on January 16, 2015. The views of the Commission are contained in USITC Publication 4512 (January 2015), entitled Polyethylene Terephthalate Film, Sheet, and Strip from Brazil, China, and the United Arab Emirates: Investigation Nos. 731-TA-1131-1132, and 1134 (Review).

By order of the Commission.
Issued: January 16, 2015.
Lisa R. Barton,
Secretary to the Commission.

[FR Doc. 2015-01096 Filed 1-22-15; 8:45 am]

BILLING CODE 7020-02-P